DEPARTMENT OF COMMERCE

International Trade Administration

Notice of Amendment to the Cybersecurity Business Development Mission to Peru, Chile, and Uruguay, With an Optional Stop in Argentina

AGENCY: International Trade Administration, Department of Commerce.

ACTION: Notice.

SUMMARY: The United States Department of Commerce, International Trade Administration, is amending the Notice published March 2, 2020, regarding the Cybersecurity Business Development Mission to Peru, Chile, and Uruguay, with an optional stop in Argentina, scheduled from October 5-9, 2020, to amend the dates and deadline for submitting applications for the event.

SUPPLEMENTARY INFORMATION: Amendments to Revise the Trade Mission Dates, and Deadline for Submitting Applications.

Background

The United States Department of Commerce, International Trade Administration, is amending the Notice published at 85 FR 12259 (March 10, 2020), regarding the dates of ITA's planned Cybersecurity Business Development Mission to Peru, Chile, and Uruguay, with an optional stop in Argentina, which have been modified from October 5-9, and 13, 2020, to March 1-5, and 8, 2021. The new deadline for applications has been extended to November 13, 2020. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

Sunday, February 28, 2021 | • Trade Mission Participants Arrive in Lima, Peru.
Monday, March 1, 2021 | • Welcome and Country Briefing (Peru).
| • Presentations and/or cabinet/ministry meetings.
| • Networking Lunch.
| • One-on-One business matchmaking appointments.
| • Networking Reception at Ambassador's residence (TBC).
Tuesday, March 2, 2021. | • Travel to Santiago, Chile.
| • Welcome and Country Briefing (Chile).
| • Presentations.
Wednesday, March 3, 2021 | • One-on-One business matchmaking appointments.
| • Networking Lunch.
| • Cabinet/Ministry meetings.
| • Networking Reception at Ambassador's residence (TBC).
Thursday, March 4, 2021 | • (Morning) Travel to Montevideo, Uruguay.
| • (Afternoon) Welcome and Briefing.
| • Presentations by Uruguayan government entities.
Friday, March 5, 2021 | • (Morning) Business atchmaking.
| • Closing Ambassador's reception (TBC).
| • (Afternoon) Trade mission participants depart for optional Argentina stop or return home.
Saturday-Sunday, March 6-7, 2021 | • Travel day (End of Mission) or free time for Argentina optional stop participants.
Tuesday, March 8, 2021 (Optional) | • Welcome and Country Briefing (Argentina).
| • One-on-One business matchmaking appointments.

The U.S. Department of Commerce will review applications and make selection decisions on a rolling basis in accordance with the Notice published at 85 FR 12259 (March 10, 2020). The applicants selected will be notified as soon as possible.

Contacts

Gemal Brangman, Senior Advisor, Trade Missions, Trade Events Task Force, Washington, DC, 202-482-3773, Gemal.Brangman@trade.gov

Paul Matino, Senior International Trade Specialist, Baltimore, MD—USEAC, 410-962-4539, Paul.Matino@trade.gov

Peru

Leon Skarshinski, Commercial Officer, U.S. Embassy—Lima, Peru, Leon.Skarshinski@trade.gov

Chile

Joshua Leibowitz, Commercial Officer, U.S. Embassy—Santiago, Chile, Joshua.Leibowitz@trade.gov

Uruguay

Matthew Poole, Senior Commercial Officer, U.S. Embassy—Montevideo, Uruguay, Matthew.Poole@trade.gov

Argentina

Karen Ballard, Commercial Officer, U.S. Embassy—Santiago, Chile, Karen.Ballard@trade.gov

Gemal Brangman,
Senior Advisor, Trade Missions, ITA Events Management Task Force.

[FR Doc. 2020-16139 Filed 7-24-20; 8:45 am]

BILLING CODE 3510-DR-P